NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 27, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Permit Application: 2019-015

Robin West, Director of Expedition Operations, Onboard Revenue, Seabourn Quest, Seabourn Cruise Line Ltd., 450 Third Ave. W, Seattle, WA 98119.

Activity for Which Permit Is Requested: Waste Management. The applicant proposes to operate a small, battery-operated remotely piloted aircraft system (RPAS) consisting, in part, of a quadcopter equipped with a camera to collect commercial and educational footage of the Antarctic, as well as for ice reconnaissance. The quadcopter would not be flown over concentrations of birds or mammals, or over Antarctic Specially Protected Areas. The RPAS would only be operated by pilots with extensive experience (≤20 hours), who are pre-approved by the Expedition Leader. Several Measures would be taken to prevent against loss of the quadcopter including a highly visible paint color; only operating when the wind is less than 25 knots; operating for only 15 minutes at a time to preserve battery life; having prop guards on propeller tips; using a flotation device if operated over water; a “fail-safe and auto go home” feature in the case of a loss of control link or low battery; having an observer on the lookout for wildlife, people, and other hazards; and ensuring that the separation between the operator and quadcopter does not exceed an operational range of 500 meters. The applicant is seeking a Waste Permit to cover any accidental releases that may result from operating the RPAS.

Location: Antarctic Peninsula Region.

Dates of Permitted Activities: November 29, 2018-March 31, 2019.

Suzanne H. Plimpton,
Reports Clearance Officer, National Science Foundation.

[FR Doc. 2018-25742 Filed 11-26-18; 8:45 am]

BILLING CODE 7555-01-P